INTERNATIONAL TRADE COMMISSION

[Investigation Nos. 701-TA-472 and 731-TA-1171 to 1172 ;Prelim. ; Remand]

Certain Standard Steel Fasteners From China and Taiwan

AGENCY: United States International Trade Commission.

ACTION: Notice of remand proceedings

SUMMARY: The U.S. International Trade Commission (“Commission”) hereby gives notice of the court-ordered remand of its preliminary determinations in Investigation Nos. 701-TA-472 and 731-TA-1171 to 1172 (Preliminary) concerning certain standard steel fasteners (“CSSF”) from China and Taiwan. For further information concerning the conduct of these remand proceedings and rules of general application, consult the Commission's Rules of Practice and Procedure, part 201, subparts A through E (19 CFR part 201), and part 207, subpart A (19 CFR part 207).

DATES: Effective Date: September 14, 2011.

FOR FURTHER INFORMATION CONTACT: Douglas E. Corkran, Office of Investigations, telephone 202-205-3057, or Mary Jane Alves, Office of General Counsel, telephone 202-708-2969, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record of Investigation Nos. 701-TA-472 and 731-TA-1171 to 1172 may be viewed on the Commission's electronic docket (“EDIS”) at http://edis.usitc.gov.

SUPPLEMENTARY INFORMATION: Background.—In November 2009, the Commission issued unanimous negative preliminary determinations in which it found no reasonable indication that an industry in the United States was materially injured or threatened with material injury by reason of imports of CSSF from China and Taiwan that were allegedly sold in the United States at less-than-fair value and imports of subject merchandise from China that were allegedly subsidized by the Government of China. Nucor Fasteners Division, a domestic producer of CSSF and petitioner, contested the Commission's determination before the U.S. Court of International Trade (CIT). The CIT affirmed certain aspects of the Commission's determination, but remanded two issues to the Commission. It ordered the Commission to take “action consistent with {its} opinion.” Nucor Fasteners Division v. United States, Slip. Op. 11-104 at 2, 31 (Ct. Int'l Trade Aug. 11, 2011).

Participation in the proceeding.—Only those persons who were interested parties to the original investigations (i.e., persons listed on the Commission Secretary's service list) and participated in the appeal proceedings before the CIT may participate in the remand proceedings. Such persons need not re-file their appearance notices or protective order applications to participate in the remand proceedings. Business proprietary information (“BPI”) referred to during the remand proceedings will be governed, as appropriate, by the administrative protective order issued in the original investigations.

Written submissions.—The Commission is not reopening the record in these remand proceedings for the submission of new factual information. Nonetheless, the Commission will permit the parties to file written comments pertaining to the issues that are the subject of the CIT's remand instructions, specifically:

1. The nature of the action the Commission should take on remand to address the Court's finding that the Commission treated its import data as “comprehensive.”

2. The nature of the action the Commission should take on remand to address the Court's finding that the Commission did not identify a rational basis for its “unqualified reliance on” the questionnaire response of a firm referred to in the Court's opinion as Producer A, which reported itself as a U.S. producer of the domestic like product CSSF.

Comments should be limited to no more than fifteen (15) double-spaced and single-sided pages of textual material, inclusive of appendices or other such attachments. The parties may not submit any new factual information in their comments and may not address any issue other than those listed above. Any such comments must be filed with the Commission no later than October 7, 2011.

All written submissions must conform with the provisions of section 201.8 of the Commission's rules; any submissions that contain BPI must also conform with the requirements of sections 201.6, 207.3, and 207.7 of the Commission's rules. The Commission's rules do not authorize filing of submissions with the Secretary by facsimile or electronic means, except to the extent permitted by section 201.8 of the Commission's rules, as amended, 67 FR 68036 (Nov. 8, 2002).

In accordance with sections 201.16(c) and 207.3 of the Commission's rules, each document filed by a party to the investigation must be served on all other parties to the investigation (as identified by either the public or BPI service list), and a certificate of service must be timely filed. The Secretary will not accept a document for filing without a certificate of service.

Parties are also advised to consult with the Commission's Rules of Practice and Procedure, part 201, subparts A through E (19 CFR part 201), and part 207, subpart A (19 CFR part 207) for provisions of general applicability concerning written submissions to the Commission.

By order of the Commission.
Issued: September 15, 2011.
James R. Holbein,
Secretary to the Commission.

[FR Doc. 2011-24207 Filed 9-20-11; 8:45 am]

BILLING CODE 7020-02-P